DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Implementation of a Feedback Form for MCH Alert Subscribers—NEW

The MCH Alert is a free weekly electronic newsletter that provides timely reference to research findings, policy developments, recently released publications, and new programs and initiatives affecting the maternal and child health (MCH) community. The goal is to make MCH news and policy more accessible to health professionals, policymakers, family advocates, community service professionals, MCH/public health faculty and students, families, and the public. Each Friday, MCH Alert is electronically distributed to over 4,000 subscribers across the country. Visitors to the Web site can review archives of past issues, search for specific topics, link to reports and resources discussed, and find subscription information.

The overall goal of the Feedback Form is to determine whether the MCH Alert topics and format continue to meet subscriber needs. Specifically, the form will provide a means for assessing (1) the usefulness of the information and service and (2) the effectiveness of targeted outreach efforts.

Form | Number of respondents | Responses per respondent | Total responses | Minutes per response | Total burden hours
Electronic customer satisfaction feedback form | 1,200 | 1 | 1,200 | 10 | 200

Send comments to Susan G. Queen, Ph.D., HRSA Reports Clearance Officer, Room 14-45, Parklawn Building, 5600 Fishers Lane, Rockville, MD 20857. Written comments should be received within 60 day of this notice.

Dated: September 2, 2003.
Jane M. Harrison,
Director, Division of Policy Review and Coordination.

[FR Doc. 03-22752 Filed 9-5-03; 8:45 am]

BILLING CODE 4165-15-P